DEPARTMENT OF COMMERCE

National Oceanic and Atmospheric Administration

[RTID 0648-XA423]

Gulf of Mexico Fishery Management Council; Public Meeting

AGENCY: National Marine Fisheries Service (NMFS), National Oceanic and Atmospheric Administration (NOAA), Commerce.

ACTION: Notice of a public meeting.

SUMMARY: The Gulf of Mexico Fishery Management Council (Council) will hold a three-day meeting via webinar of its Standing, Reef Fish, Ecosystem and Socioeconomic Scientific and Statistical Committees (SSC)

DATES: The meeting will be held on Monday, September 14, 2020, from 9 a.m. to 4:30 p.m., Tuesday, September 15, 2020, from 9 a.m. to 4:30 p.m. and Wednesday, September 16, 2020, from 9 a.m. to 4:30 p.m., EDT.

ADDRESSES: The meeting will take place via webinar; you may register by visiting www.gulfcouncil.org and clicking on the SSC meeting on the calendar.

Council address: Gulf of Mexico Fishery Management Council, 4107 W. Spruce Street, Suite 200, Tampa, FL 33607; telephone: (813) 348-1630.

FOR FURTHER INFORMATION CONTACT: Ryan Rindone, Lead Fishery Biologist, Gulf of Mexico Fishery Management Council; ryan.rindone@gulfcouncil.org, telephone: (813) 348-1630.

SUPPLEMENTARY INFORMATION:

Monday, September 14, 2020; 9 a.m.-4:30 p.m., EDT

The meeting will begin with Introductions and Adoption of Agenda, Approval of Minutes from the August 11-12, 2020 webinar meeting, review of Scope of Work, and Selection of SSC Representative for the October 26-29, 2020 Gulf Council Meeting in Gulfport, Mississippi. The Committees will review the following; SEDAR 38 Update—Gulf of Mexico Migratory Group King Mackerel, including assessment presentations, projections, and the Stock Assessment Executive Summary. The Committees will also review the Gulf Gray Triggerfish Interim Analysis, including presentation and projections; and SEDAR 74: Red Snapper Research Track Terms of Reference.

Tuesday, September 15, 2020; 9 a.m.-4:30 p.m., EDT

The Committees will review and hold discussions on the Great Red Snapper Count, Sea Grant/NMFS Greater Amberjack Research Program, Carryover in the Red Snapper Individual Fishing Quota (IFQ) Program, Allocation Review Procedures, and SEDAR 75: Gulf of Mexico Gray Snapper Terms of Reference, Schedule, and Participant Solicitation.

Wednesday, September 16, 2020; 9 a.m.-4 p.m., EDT

The Committees will review “Testing assumptions about sex change and spatial management in the protogynous gag grouper, Mycteroperca microlepis, Habitat Research, and Red Snapper Supply Chains and Markets.

Lastly, the Committee will discuss Other Business items and receive public comment.

—Meeting Adjourns

The meeting will be broadcast via webinar. You may register for the webinar by visiting www.gulfcouncil.org and clicking on the SSC meeting on the calendar.

The Agenda is subject to change, and the latest version along with other meeting materials will be posted on www.gulfcouncil.org as they become available.

Although other non-emergency issues not on the agenda may come before the Scientific and Statistical Committees for discussion, in accordance with the Magnuson-Stevens Fishery Conservation and Management Act, those issues may not be the subject of formal action during this meeting. Actions of the Scientific and Statistical Committee will be restricted to those issues specifically identified in the agenda and any issues arising after publication of this notice that require emergency action under section 305(c) of the Magnuson-Stevens Fishery Conservation and Management Act, provided the public has been notified of the Council's intent to take action to address the emergency.

Authority: 16 U.S.C. 1801 et seq.

Dated: August 25, 2020.
Tracey L. Thompson,
Acting Deputy Director, Office of Sustainable Fisheries, National Marine Fisheries Service.

[FR Doc. 2020-18967 Filed 8-27-20; 8:45 am]

BILLING CODE 3510-22-P